ENVIRONMENTAL PROTECTION AGENCY

[FRL-8946-8]

National Recommended Final Water Quality Criteria for Acrolein

AGENCY: Environmental Protection Agency (EPA).

ACTION: Notice of availability of final criteria.

SUMMARY: Pursuant to section 304(a) of the Clean Water Act (CWA), the Environmental Protection Agency (EPA) is announcing the availability of final national recommended water quality criteria for the protection of aquatic life for acrolein. Draft national recommended water quality criteria for acrolein were published for scientific views from the public on December 17, 2008 at 73 FR 76644. The final criteria published today are based on EPA's Guidelines for Deriving Numerical National Water Quality Criteria for the Protection of Aquatic Organisms and Their Uses (1985), (EPA/R-85-100). EPA's recommended section 304(a) water quality criteria provide guidance to States and authorized Tribes in adopting water quality standards for protecting aquatic life and human health and provide guidance to EPA for promulgating Federal regulations under CWA section 303(c), when such action is necessary.

ADDRESSES: Scientific views received from the public on the draft acrolein criteria are available from the EPA Docket Center and are identified by Docket ID No. EPA-HQ-OW-2008-0795. They may be accessed online at:

• http://www.regulations.gov: Follow the on-line instructions for reviewing comments.

• E-mail: OW-Docket@epa.gov.

• Mail: U.S. Environmental Protection Agency; EPA Docket Center (EPA/DC) Water Docket, MC 2822T; 1200 Pennsylvania Avenue, NW., Washington, DC 20460.

• On Site: EPA Docket Center, 1301 Constitution Ave, NW., EPA West, Room 3334, Washington DC 20460.

For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Office of Water Docket/EPA/DC, 1301 Constitution Ave, NW., EPA West, Room 3334, Washington DC 20460. This Docket Facility is open from 8:30 a.m. until 4:30 p.m., EST, Monday through Friday, excluding legal holidays. The telephone number for the Public Reading Room is (202) 566-1744, and the telephone number for the Office of Water is (202) 566-2426.

FOR FURTHER INFORMATION CONTACT: Dr. Frank Gostomski, Health and Ecological Criteria Division (4304T), U.S. EPA, 1200 Pennsylvania Ave., NW., Washington, DC 20460; (202) 566-1105; gostomski.frank@epa.gov.

SUPPLEMENTARY INFORMATION:

I. What Are Water Quality Criteria?

Water quality criteria are scientifically derived numeric values that protect aquatic life or human health from the deleterious effects of pollutants in ambient water.

Section 304(a)(1) of the Clean Water Act requires EPA to develop and publish and, from time to time, revise, criteria for water quality accurately reflecting the latest scientific knowledge. Water quality criteria developed under section 304(a) are based solely on data and scientific judgments on the relationship between pollutant concentrations and environmental and human health effects. Section 304(a) criteria do not reflect consideration of economic impacts or the technological feasibility of meeting the chemical concentrations in ambient water.

Section 304(a) criteria provide guidance to States and authorized Tribes in adopting water quality standards that ultimately provide a basis for controlling discharges or releases of pollutants. The criteria also provide guidance to EPA when promulgating Federal regulations under section 303(c) when such action is necessary. Under the CWA and its implementing regulations, States and authorized Tribes are to adopt water quality criteria to protect designated uses (e.g., public water supply, recreational use, industrial use). EPA's recommended water quality criteria do not substitute for the CWA or regulations, nor are they regulations themselves. Thus, EPA's recommended criteria do not impose legally binding requirements. States and authorized Tribes have the discretion to adopt, where appropriate, other scientifically defensible water quality standards that differ from these recommendations.

II. What Are the Acrolein Criteria?

Today, EPA is publishing final national recommended water quality criteria (NRWQC) for protecting aquatic life for acrolein. These final criteria are based on EPA's Guidelines for Deriving Numerical National Water Quality Criteria for the Protection of Aquatic Organisms and Their Uses (1985), (EPA/R-85-100). These Guidelines describe the Agency's current approach for deriving national recommended water quality criteria to protect aquatic life. Reliable sources provided toxicity data and other information on the effects of acrolein, which were subjected to both internal and external peer review. Scientific views were also received from the public on the draft acrolein criteria. The comments received did not warrant modification of the draft criteria for acrolein. The comments and EPA responses can be found in the docket.

Freshwater: Freshwater aquatic organisms and their uses should not be affected unacceptably if the acute (one-hour average) concentration of acrolein does not exceed 3.0 μg/l more than once every three years on the average, and if the chronic (four-day average) concentration of acrolein does not exceed 3.0 μg/l more than once every three years on the average.

Saltwater: Saltwater criteria cannot be derived for acrolein at this time because of a lack of acute and chronic toxicity data.

III. What Is the Relationship Between the Water Quality Criteria and State or Tribal Water Quality Standards?

As part of the water quality standards triennial review process defined in Section 303(c)(1) of the CWA, the States and authorized Tribes are responsible for maintaining and revising water quality standards. Water quality standards consist of designated uses, water quality criteria to protect those uses, a policy for antidegradation, and general policies for application and implementation. Section 303(c)(1) requires States and authorized Tribes to review and modify, if appropriate, their water quality standards at least once every three years.

States and authorized Tribes must adopt water quality criteria that protect designated uses. Protective criteria are based on a sound scientific rationale and contain sufficient parameters or constituents to protect the designated uses.

Consistent with 40 CFR131.21 (see: EPA Review and Approval of State and Tribal Water Quality Standards (65 FR 24641, April 27, 2000)), water quality criteria adopted by law or regulation by States and authorized Tribes prior to May 30, 2000, are in effect for CWA purposes unless superseded by Federal regulations (see, for example, the National Toxics Rule, 40 CFR 131.36; Water Quality Standards for Idaho, 40 CFR 131.33). New or revised water quality criteria adopted into law or regulation by States and authorized Tribes on or after May 30, 2000 are in effect for CWA purposes only after EPA approval.

IV. Where Can I Find More Information About Water Quality Criteria and Water Quality Standards?

For more information about water quality criteria and Water Quality Standards refer to the following: Water Quality Standards Handbook (EPA 823-B94-005a); Advanced Notice of Proposed Rule Making (ANPRM), (63FR36742); Water Quality Criteria and Standards Plan—Priorities for the Future (EPA 822-R-98-003); Guidelines and Methodologies Used in the Preparation of Health Effects Assessment Chapters of the Consent Decree Water Criteria Documents (45FR79347); Methodology for Deriving Ambient Water Quality Criteria for the Protection of Human Health (2000), (EPA-822-B-00-004); Guidelines for Deriving Numerical National Water Quality Criteria for the Protection of Aquatic Organisms and Their Uses (EPA 822/R-85-100); National Strategy for the Development of Regional Nutrient Criteria (EPA 822-R-98-002); and EPA Review and Approval of State and Tribal Water Quality Standards (65 FR 24641).

You can find these publications through EPA's National Service Center for Environmental Publications (NSCEP, previously NCEPI) or on the Office of Science and Technology's Home-page (http://www.epa.gov/waterscience).

Dated: August 12, 2009.
Peter S. Silva,
Assistant Administrator for Water.

[FR Doc. E9-21820 Filed 9-9-09; 8:45 am]

BILLING CODE 6560-50-P